DEPARTMENT OF ENERGY

National Nuclear Security Administration; Notice of Intent To Prepare an Environmental Impact Statement for the Proposed Wind Farm at the Nevada Test Site

AGENCY: Department of Energy, National Nuclear Security Administration.

ACTION: Notice of intent.

SUMMARY: The Department of Energy, National Nuclear Security Administration (DOE/NNSA), announces its intention to prepare an environmental impact statement (EIS) for a proposal to allow the Nevada Test Site (NTS) Development Corporation (the designated community reuse organization for the NTS) and M&N Wind Power, Inc. and Siemens (MNS) to construct, operate and maintain a wind farm at the Nevada Test Site. This proposal, if fully implemented, would consist of up to 545 wind turbines generating up to approximately 600 megawatts of electricity. The wind farm would encompass approximately 432 hectares (1069 acres) of land on the NTS. The EIS will address potential environmental impacts of the construction, operation and maintenance of the wind farm.

DATES: Comments on the proposed scope of the Wind Farm EIS are invited from the public. To ensure consideration in the preparation of the EIS, comments must be postmarked by August 24, 2001. Late comments will be considered to the extent practicable. Two public scoping meetings to discuss issues and receive oral comments on the scope of the EIS will be held in southern Nevada. The scoping meetings will provide the public with an opportunity to present comments, ask questions, and discuss concerns with DOE/NNSA officials regarding the EIS. The location, date, and time for these public scoping meetings are as follows:

Las Vegas, Nevada—August 16, 2001 5 p.m.-8 p.m., Department of Energy, National Nuclear Security Administration, Nevada Operations Office, 232 Energy Way, North Las Vegas, Nevada.

Pahrump, Nevada —August 17, 2001 6 p.m.-9 p.m. Bob Rudd Community Center, 150 No. Highway 160, Pahrump, Nevada.

ADDRESSES: General questions concerning the Wind Farm project may be directed to Kevin Thornton at (702) 295-1541 or in writing to: Mr. Kevin Thornton, Department of Energy, National Nuclear Security Administration, Nevada Operations Office, P.O. Box 98518, Las Vegas, NV 89193-8518.

Comments may also be submitted to Mr. Thornton at the address above; or faxed to 1-702-295-2261; or e-mailed to nepa@nv.doe.gov. Please mark envelopes, faxes, and E-mail: “Wind Farm EIS Comments.”

FOR FURTHER INFORMATION CONTACT: For general information on the NNSA NEPA process, please contact: Mr. Henry Garson, NEPA Compliance Officer for Defense Programs, U.S. Department of Energy/NNSA, 1000 Independence Avenue, SW., Washington, DC 20585; or telephone 1-800-832-0885, ext. 30470. For general information on the DOE NEPA process, please contact: Ms. Carol M. Borgstrom, Director, Office of NEPA Policy and Compliance (EH-42), U.S. Department of Energy, 1000 Independence Avenue, SW., Washington, DC 20585, telephone 202-586-4600, or leave a message at 1-800-472-2756.

SUPPLEMENTARY INFORMATION: Background: The current power shortage in California has focused national attention on the need for additional generation facilities in the western United States. Additionally, several states have adopted renewable energy portfolio standards requiring utilities to purchase power from renewable energy sources. The proposed facilities would support both the need for additional generation and provide utilities the opportunity to meet their requirements to purchase renewable energy.

As the Federal agency charged with operating and managing the NTS, DOE, in October 1996, prepared a site-wide EIS for the site, “Final Environmental Impact Statement for the Nevada Test Site and Off Site Locations in the State of Nevada” (DOE/EIS 0243). The Record of Decision (ROD) for that site-wide EIS stated: “This decision will result in the continuation of the multipurpose, multi-program use of the Nevada Test Site, under which DOE will pursue a further diversification of interagency, private industry, and public-education uses while meeting its Defense Program, Waste Management, and Environmental Restoration mission requirements.”

Section 3161 of the National Defense Authorization Act for fiscal year 1993 encouraged DOE to minimize the social and economic impacts on workers and communities affected by downsizing of defense-related facilities. One of the methods DOE uses to implement this Congressional direction was to establish local Community Reuse Organizations (CROs) to assist economic development efforts. The CRO for the NTS is the NTS Development Corporation (NTSDC). Among other things, section 3161 authorized DOE to encourage private sector economic development at DOE sites and facilities. The NTS site-wide EIS ROD indicates that as part of its decision, DOE would continue to support ongoing program operations and pursue diversification of use to include non-defense and private use. The proposed wind farm would be a private sector enterprise located on the NTS. The development of the facilities would be authorized pursuant to an easement issued by NNSA, Nevada Operations Office (NV) to NTSDC, and a subsequent sub-easement from NTSDC to MNS, subject to NNSA/NV approval.

DOE has received a proposal from MNS to develop, operate, and maintain a wind farm at the NTS to help fulfill a national need for additional electrical energy generation. The purpose of the proposed facilities would be to provide a viable renewable energy source. DOE believes that the wind farm would be compatible with other NTS missions and programs.

In November 2000, NNSA/NV began preparation of an environmental assessment (EA) for the proposed project. A public scoping meeting for the EA was held in Pahrump, Nevada, at that time. The Draft EA was provided for review and comment to Nevada State agencies, other Federal agencies, affiliated American Indian tribes, and other interested parties in March 2001. Several issues were raised by the commentors including the surrounding NTS land use, inadequacy of current power distribution systems, and the potential impacts on cultural and biological resources at the proposed sites and the need to gather additional information on these concerns. Based upon its analysis, NNSA/NV has determined that an EA would not support a Finding of No Significant Impact and, therefore, pursuant to the National Environmental Policy Act (NEPA) of 1969, as amended (42 U.S.C. 4321 et seq.), and DOE Regulations Implementing NEPA (10 CFR part 1021), DOE/NNSA has decided to prepare an EIS for the Proposed Wind Farm at the NTS. The Wind Farm EIS will evaluate the environmental impacts associated with the proposed construction and operation of a wind turbine farm at the following alternative locations: (1) Pahute Mesa and the Shoshone Mountain area (the MNS preferred alternative) on the NTS; (2) Skull Mountain on the NTS; and (3) Rainier Mesa on the NTS. It is possible that this list of reasonable alternatives may change during the scoping process. The EIS will also evaluate the no-action alternative of not establishing a wind farm at the NTS.

In association with the preparation of an EIS, NNSA/NV will enter into consultation with the 17 American Indian tribes with established cultural affiliation to the NTS.

Purpose and Need for Agency Action: The NTS Development Corporation, on behalf of MNS, has requested authorization from NNSA (pursuant to an NNSA issued easement and NTSDC sub-easement to MNS), to proceed with the installation and operation of up to 600 megawatts (MW) of wind turbine generated power using as many as 545 wind turbine generators at the NTS. This project is consistent with DOE/NNSA's Congressionally mandated purpose to further diversify and encourage private sector economic development at the NTS. The DOE/NNSA is pursuing alternative uses for the NTS, which has a mandate to support alternative and renewable energy sources. As steward of the NTS, DOE/NNSA must decide if the proposed action is consistent with current and future planned uses of the NTS and what the impacts will be to the environment.

Proposed Action: MNS proposes to develop, operate, and maintain a wind farm at the NTS. These activities would proceed in accordance with an easement to the NTS Development Corporation and sub-easement between the NTS Development Corporation and MNS. The wind farm would consist of as many as 545 wind turbine generators that would generate up to 600 MW of energy. Two general areas of the NTS—the Shoshone Mountain area and the Pahute Mesa area—have been suggested as suitable for wind power development because they are located at high elevations near steep-sided ridges and have winds of sufficient velocity and duration to make wind power economically feasible.

The Shoshone Mountains are located on the NTS in Areas 29 and 30. The proposed Shoshone Mountain wind farm area includes the Shoshone Mountain, Dome Mountain, local north and south ridges in Areas 29 and 30, and Tippipah Ridge in Area 16.

The proposed Pahute Mesa wind farm area is located primarily on the NTS in Area 19 with a few wind turbines to be located in the northwest portion of Area 12.

As currently envisioned, The Shoshone Mountain wind farm would primarily use the wind turbine generators with a three-bladed, upwind, stall-regulated, horizontal axis design. The rotors would have blades that are 25.5 meters (83.6 feet) long. The turbine's nacelles would be mounted on self-supporting tubular steel towers, 55 meters (180 feet) tall, with a bottom diameter of 3.5 meters (11 feet). The concrete foundations for the heavy-duty, tapered, monopole towers would be approximately 5 meters (15 feet) in diameter and 9 meters (30 feet) deep, although final design would depend on site-specific soil conditions. Depending on the final measured winds and siting considerations, MNS may use some larger turbines such as those turbines discussed below, substituting for some or all of the smaller turbines.

The Pahute Mesa wind farm would primarily use turbines with rotor blades as large as 36.5 meters (119 feet), mounted on towers up to 66 meters (217 feet) tall with a bottom flange of 4 meters (13 feet) in diameter. The concrete foundation required for these larger turbines would be approximately 6 meters (19 feet) in diameter and 9 meters (30 feet) deep. Depending on the final measured winds and siting considerations, MNS may use the smaller turbine generators on Pahute Mesa as substitutes for some or all of the larger turbines.

Electrical power from the wind farms would be collected by cable systems and fed to one or two proposed substations on the NTS. Because the existing 138-kilovolt (kV) NTS power loop can handle approximately 85 MW, a limited number of turbines could be interconnected to it at any given time. A new transmission line is proposed to be constructed along the existing Forty Mile Canyon power corridor and brought off site to connect with a new substation proposed to be built.

Alternatives: The alternatives for this project consist of locations on the NTS and a no-action alternative. The alternative sites include: (1) Pahute Mesa and/or the Shoshone Mountain area (the preferred alternative); (2) Skull Mountain; and (3) Rainier Mesa. Off-site locations will not be evaluated because they would not fall within the DOE/NNSA need for considering the request from the NTS development corporation (on behalf of MNS) to site the Wind Farm at the NTS.

Identification of Environmental and Other Issues: The NNSA has identified the following issues for analysis in the EIS. Additional issues may be identified as a result of the scoping process.

1. Impacts to cultural resources with archeological significance on Shoshone Mountain and Pahute Mesa.

2. Impacts to resources/sites important to the 17 native American Indian tribes with cultural affiliation to the NTS.

3. Impacts to plants, animals, and habitats, including threatened or endangered species and their habitats, associated with clearing, grading and constructing roads and operating wind turbines in previously undisturbed areas.

4. The consumption of natural resources and energy associated with constructing and operating a wind turbine farm.

5. Socioeconomic impacts to affected communities from construction and operation associated with locating a wind farm on NTS.

6. A potential need to upgrade or develop new power substations off of the NTS capable of accepting the power generated on the NTS by the wind farm.

7. Cumulative impacts from the proposed action and other past, present, and reasonably foreseeable actions at the alternative sites.

8. Potential irreversible and irretrievable commitments of resources associated with locating, constructing, and operating a wind farm on the NTS.

9. Status of compliance with all applicable Federal, state, and local statutes and regulations; required Federal, state, and tribe environmental consultations and notifications; and DOE Orders on waste management, waste minimization, and environmental protection.

10. Impacts to air quality, visual resources, NTS and surrounding land uses, NTS missions and infrastructure and impacts to transportation during the construction phase.

EIS Schedule: The sensitivity to respond to the current energy needs has placed this project on an accelerated schedule. To support a Record of Decision for this EIS by April 2002, the major milestones that must be met for the EIS are shown below.

Public Scoping Meetings—August 2001

Issue Draft EIS October—2001

Draft EIS Public Hearings—December 2001

Issue Final EIS—March 2002

Record of Decision—April 2002

Public Scoping Process: To assist in defining the appropriate scope of the EIS and to identify significant environmental issues to be addressed, NNSA representatives will conduct public scoping meetings at the locations, dates, and times described above under DATES. Each scoping meeting will begin with an overview of the proposed project, the current EIS alternatives, and the proposed EIS scope. Following the initial presentation, NNSA representatives will answer questions and accept comments. Copies of handouts from the meetings will be available to those unable to attend, by contacting the NNSA as described above under ADDRESSES. DOE invites the public to comment on the proposed project. To ensure consideration in the preparation of the EIS, written comments must be postmarked by August 24, 2001.

Issued in Washington, DC, this 17th day of July 2001.
Francis S. Blake,
Deputy Secretary of Energy, Department of Energy.

[FR Doc. 01-18430 Filed 7-24-01; 8:45 am]

BILLING CODE 6450-01-P